DEPARTMENT OF JUSTICE

National Institute of Corrections

Solicitation for a Cooperative Agreement—Curriculum Development: Thinking for a Change 3.1: Training for Facilitators

AGENCY: National Institute of Corrections, U.S. Department of Justice.

ACTION: Solicitation for a Cooperative Agreement.

SUMMARY: The National Institute of Corrections (NIC) Academy Division is seeking applications for the development of a competency-based, blended modality training curriculum that will provide corrections professionals with the knowledge, skills, and abilities needed to facilitate offender groups using the Thinking for a Change (T4C) 3.1 curriculum.

DATES: Applications must be received by 4 p.m. on Friday, February 10, 2012.

ADDRESSES: Mailed applications must be sent to: Director, National Institute of Corrections, 320 First Street NW., Room 5002, Washington, DC 20534. Applicants are encouraged to use Federal Express, UPS, or similar service to ensure delivery by the due date.

Hand delivered applications should be brought to 500 First Street NW., Washington, DC 20534. At the front desk, dial 7-3106, extension 0 for pickup.

Faxed applications will not be accepted. Electronic applications can be submitted via http://www.grants.gov.

FOR FURTHER INFORMATION CONTACT: All technical or programmatic questions concerning this announcement should be directed to Michael Guevara, Correctional Program Specialist, National Institute of Corrections. He can be reached by calling (303) 338-6617, or by email at mguevara@bop.gov.

SUPPLEMENTARY INFORMATION: Overview: NIC is looking to develop a blended curriculum that follows NIC's Instructional Theory into Practice (ITIP) model and is based on the Thinking for a Change 3.1 curriculum as well as an earlier version of the Training for Facilitators curriculum. The curriculum will use blended learning formats, including distance learning. After an initial pilot of the curriculum, it should be evaluated and edited, followed by a second pilot and final product delivery. This project should be completed by September 30, 2012.

Background: Thinking for a Change is an evidence-based cognitive behavioral program proven to reduce recidivism risk in offenders. It has undergone a number of minor edits since its first publication in 1998, but recently it has undergone a significant revision, resulting in version 3.1. With the significant changes to T4C in version 3.1, the initial Training for Facilitators curriculum has become virtually obsolete. In addition to not matching T4C 3.1, the old Training for Facilitators consists of a strictly face-to-face delivery method. A more relevant and more modern curriculum is necessary.

Purpose: To create and pilot a complete training curriculum for T4C 3.1 Training for Facilitators.

Scope of Work: At the end of this cooperative agreement, a curriculum will be developed using the Instructional Theory into Practice (ITIP) model. The curriculum will include a facilitator's manual and all relevant supplemental material (such as presentation slides, visual and/or audio aids, handouts, and exercises). The use of blended learning tools such as a live Web-based training environment or supplemental online training courses is required. Clear learning objectives must be contained in each lesson, and delivery modality should be based on how to most efficiently and effectively achieve these objectives.

The curriculum will be piloted and changes incorporated as necessary. An additional pilot should then take place followed by the delivery of a final product. The ultimate outcome objective of the curriculum must be skill-based, involving preparing staff to effectively deliver T4C 3.1 to offender groups. Tests for knowledge/skill acquisition should be incorporated into each component of the program. Consideration should be given to requiring participants to complete some work, such as reading assignments or online courses through NIC's Learning Center, in advance of classroom instruction. An evaluation, to be distributed at the conclusion of the training, will be developed. This evaluation must examine the content, processes, and delivery of the program; the evaluation should be designed with the purpose of helping to revise and improve the training and curriculum.

Specific Requirements: The Training for Facilitators curriculum will be based on the recently revised T4C 3.1 curriculum and may incorporate elements from an earlier version of the Training for Facilitators curriculum. The curriculum must follow the ITIP model.

Among other factors, the cooperative agreement will be awarded while taking into consideration a proposal that demonstrates a person or team with knowledge, experience, and expertise in the following: Curriculum design and development; the ITIP model; distance learning development; blended learning curricula design and delivery; general training for trainers and/or training for facilitators; cognitive behavioral interventions and theories; the cognitive self-change model; social skills training; problem solving training; Thinking for a Change (original version); Thinking for a Change, version 3.1; Thinking for a Change Training for Facilitators (earlier version); project management; and product delivery on time and within budget.

Document Preparation: For all awards in which a document will be a deliverable, the awardee must follow the Guidelines for Preparing and Submitting Manuscripts for Publication as found in the “General Guidelines for Cooperative Agreements,” which can be found on our Web site at www.nicic.gov/cooperativeagreements.

Application Requirements: Applications should be concisely written, typed double spaced and reference the project by the “NIC Opportunity Number” and Title in this announcement. The package must include: A cover letter that identifies the audit agency responsible for the applicant's financial accounts as well as the audit period or fiscal year that the applicant operates under (e.g., July 1 through June 30); a program narrative in response to the statement of work and a budget narrative explaining projected costs. The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf.

Applications may be submitted in hard copy, or electronically via http://www.grants.gov. If submitted in hard copy, there needs to be an original and three copies of the full proposal (program and budget narratives, application forms, and assurances). The original should have the applicant's signature in blue ink.

Authority: Pub. L. 93-415.

Funds Available: NIC is seeking the applicant's best ideas regarding accomplishment of the scope of work and the related costs for achieving the goals of this solicitation.

The final products should include a complete curriculum (with all supplemental materials) and the delivery of two pilot trainings. Funds may only be used for the activities that are linked to the desired outcome of the project.

The NIC Academy Division is interested in collaborating with the awardee throughout the development of the curriculum, and specifically for the creation of an e-learning component.

Eligibility of Applicants: An eligible applicant is any public or private agency, educational institution, organization, individual or team with expertise in the described areas.

Review Considerations: Applications received under this announcement will be subjected to a 3- to 5-person NIC Peer Review Process. The following considerations will be taken into account for reviewing applications:

Programmatic (50%)

Is there demonstrated knowledge of curriculum design and development? Is a specific model of curriculum development (e.g., ITIP) proposed? Is there demonstrated knowledge of adult learning theory? Is there demonstrated knowledge of techniques and/or interventions that successfully address acquisition and retention of new knowledge, skills, and abilities? Does the proposal include blended and distance learning approaches? Are project goals/tasks adequately discussed? Is there a clear statement of how project goals will be accomplished, including major tasks that will lead to achieving the goal, the strategies to be employed, required staffing, and other required resources? Are there any innovative approaches, techniques, or design aspects proposed that will enhance the project? Is there demonstrated knowledge of cognitive behavioral theory and interventions? Are there demonstrated knowledge, skills, and experience with delivering training?

Organizational (20%)

Do the skills, knowledge, and expertise of the organization and the proposed project staff demonstrate a high level of competency to fulfill the tasks? Does the applicant/organization have the necessary experience and organizational capacity to meet all goals of the project? Are the proposed project management and staffing plans realistic and sufficient to complete the project within the specified time frame?

Project Management/Administration (20%)

Does the applicant identify reasonable objectives, milestones, and measures to track progress? If consultants and/or partnerships are proposed, is there a reasonable justification for their inclusion in the project and a clear structure to ensure effective coordination? Is the proposed budget realistic, does it provide sufficient cost detail/narrative, and does it represent good value relative to the anticipated results?

Financial/Administrative (10%)

Is there adequate cost narrative to support the proposed budget? Does the cost seem reasonable? Does the proposal seem to provide good value?

Note: NIC will not award a cooperative agreement to an applicant who does not have a Dun and Bradstreet Database Universal Number (DUNS) and is not registered in the Central Contractor Registry (CCR).

A DUNS number can be received at no cost by calling the dedicated toll-free DUNS number request line at 1-(800) 333-0505 (if you are a sole proprietor, you would dial 1-866-705-5711 and select option 1).

Registration in the CRR can be done online at the CCR web site: http://www.ccr.gov. A CCR Handbook and worksheet can also be reviewed at the web site.

Number of Awards: One.

NIC Application Number: 12AC12. This number should appear as a reference line in the cover letter, where indicated on Standard Form 424, and outside of the envelope in which the application is sent.

Catalog of Federal Domestic Assistance Number: 16.601.

Executive Order 12372: This project is not subject to the provisions of Executive Order 12372.

Harry Fenstermaker,
CFO, National Institute of Corrections.

[FR Doc. 2012-1720 Filed 1-26-12; 8:45 am]

BILLING CODE 4410-36-P